DEPARTMENT OF HEALTH AND HUMAN SERVICES

Administration for Children and Families

Submission for OMB Review; Comment Request

Title: Head Start Family and Child Experiences Survey (FACES).

OMB No.: 0970-0151.

Description: The Administration for Children and Families (ACF) of the Department of Health and Human Services (HHS) is requesting comments on plans to collect data on a new cohort for the Head Start Family and Child Experiences Survey (FACES). ACF is conducting this study to collect information on Head Start performance measures and has contracted with Mathematica Policy Research, Inc. (with Juarez and Associates and Educational Testing Service as their subcontractors) (contract #HHSP23320052905YC) for this purpose.

FACES will involve five waves of data collection. The first wave will occur in fall 2006. Data will be collected on a sample of approximately 3,650 3- and 4-year-old children and their families from about 350 classrooms across 60 Head Start programs. Data collection will include assessments of Head Start children, interviews with their parents, and ratings by their Head Start teachers. Furthermore, site visitors will interview Head Start teachers and management staff.

The second wave in spring 2007 will be very similar to the fall 2006 data collection, except that we will not repeat interviews with the Head Start staff interviewed in the fall. The children in the second wave will be at the end of their first year of Head Start. Trained staff will also do observations of children's Head Start classrooms.

The third wave will occur in fall 2007 and will involve follow-ups with children who at this time are starting their second year in Head Start. Data collection will follow the same procedures as in fall 2006.

The fourth wave will occur in spring 2008 and will involve follow-ups with children who at this time are either completing a second year in Head Start or completing kindergarten. For those children who are still attending Head Start, data collection will follow the same procedures as in spring 2007. For those children attending kindergarten, data collection will include assessments of children, an “update” survey of the information collected from the parent interview, and ratings of the children's academic progress and school adjustment by kindergarten teachers.

The fifth wave of data collection will occur in spring 2009. Children who attended kindergarten the previous year will not be included in this wave. The procedures for this effort will be the same as for kindergartners in spring 2008.

This schedule of data collection is necessitated by the mandates of the Government Performance and Results Act (GPRA) of 1993 (Pub. L. 103-62), which requires that the Head Start Bureau move expeditiously toward development and testing of Head Start Performance Measures and, by the 1994 reauthorization of Head Start (Head Start Act, as amended, May 18, 1994, Section 649(d)), which requires periodic assessments of Head Start's quality and effectiveness.

Respondents: Federal Government, Individuals or Households, and Not-for-Profit Institutions.

Annual Burden Estimates

Estimated Response Burden for Respondents to the Head Start Family and Child Experiences Survey (FACES 2006)—Fall 2006, Spring 2007, Fall 2007, Spring 2008, Spring 2009.

Instrument | Number of respondents | Number of responses per respondent | Average burden hours per response | Total burden hours
Year 1—Fall 2006:
Head Start Parent Interview | 3,464 | 1 | 1.00 | 3,464
Head Start Child Assessment | 3,464 | 1 | 0.66 | 2,286
Teacher Child Rating | 350 | 9.4 | 0.25 | 823
Program Director Interview | 60 | 1 | 0.25 | 15
Center Director Interview | 120 | 1 | 0.80 | 96
Education Coordinator Interview | 120 | 1 | 0.75 | 90
Teacher Interview | 350 | 1 | 1.00 | 350
Spring 2007:
Head Start Parent Interview | 2,789 | 1 | 0.75 | 2,092
Head Start Child Assessment | 2,882 | 1 | 0.66 | 1,902
Teacher Child Rating | 370 | 8.2 | 0.25 | 759
Head Start Teacher-new | 70 | 1 | 1.00 | 70
Head Start Teacher-continuing | 300 | 1 | 0.50 | 150
Year 2—Fall 2007:
Head Start Parent Interview | 1,333 | 1 | 0.40 | 533
Head Start Child Assessment | 1,425 | 1 | 0.66 | 941
Teacher Child Rating | 200 | 7.5 | 0.025 | 375
Spring 2008:
Head Start Parent Interview | 1,172 | 1 | 0.75 | 879
Head Start Child Assessment | 1,282 | 1 | 0.66 | 846
Teacher Child Rating | 200 | 6.7 | 0.25 | 335
Head Start Teacher Interiew | 200 | 1 | 200 | 200
Kindergarten Parent Interview | 1,171 | 1 | 0.75 | 878
Kindergarten Child Assessment | 1,102 | 1 | 0.75 | 827
Kindergarten Teacher Questionnarie and Child Rating | 964 | 1 | 0.50 | 482
Year 3—Spring 2009:
Kindergarten Parent Interview | 1,172 | 1 | 0.75 | 879
Kindergarten Child Assessment | 1,103 | 1 | 0.75 | 827
Kindergarten Teacher Questionnaire and Child Rating | 965 | 1 | 0.50 | 483

Estimated Total Burden Hours: 20,582.

Estimated Total Annual Burden Hours (averaage of 3 years): 6,861.

Additional Information

Copies of the proposed collection may be obtained by writing to the Administration for Children and Families, Office of Information Services, 370 L'Enfant Promenade, SW., Washington, DC 20447, Attn: ACF Reports Clearance Officer. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF. E-mail address: Katherine_T.Astrich@omb.eop.gov.

Dated: March 6, 2006.
Robert Sargis,
Reports Clearance Officer.

[FR Doc. 06-2321 Filed 3-9-06; 8:45am]

BILLING CODE 4184-01-M